PACIFIC NORTHWEST ELECTRIC POWER AND CONSERVATION PLANNING COUNCIL

Columbia River Basin Fish and Wildlife Program Subbasin Plan Amendments

AGENCY: Pacific Northwest Electric Power and Conservation Planning Council (Northwest Power and Conservation Council; Council).

ACTION: Notice of final adoption of the subbasin plan amendments to the Council's Columbia River Basin and Wildlife Program (Fish and Wildlife Program).

SUMMARY: The Pacific Northwest Electric Power Planning and Conservation Act of 1980 (U.S.C. 839 et seq.) (the Power Act) requires the Northwest Power and Conservation Council to adopt and periodically review and amend the Fish and Wildlife Program. The program must be designed to protect, mitigate and enhance the fish and wildlife affected by the development and operation of the hydroelectric facilities of the Columbia River and its tributaries, while also assuring the region of an adequate, efficient, economical and reliable power supply.

On August 12, 2002, pursuant to Section 4(h) of the Power Act, the Council requested in writing that state and federal fish and wildlife agencies, Indian tribes and others submit recommendations for amendments to the Fish and Wildlife Program. The Council requested recommendations for objectives and measures for the program at the subbasin level, to be submitted in the form of a subbasin plan for each subbasin or as possible elements for a subbasin plan.

On May 28, 2004, the Council received proposed subbasin plans for 59 subbasins of the Columbia River, formally recommended for amendment into the Council's Fish and Wildlife Program. The Council then engaged in the lengthy public review process required by the Power Act for recommended program amendments, including notice and public review and comment on the recommendations and notice, comment and public hearings in all four states of the Columbia basin on proposed draft amendments based on the recommendations.

Following the required public review, the Council formally adopted as amendments into the Fish and Wildlife Program subbasin plans for 57 Columbia basin subbasins, based on the recommendations submitted. The Council made its decisions to adopt the subbasin plan amendments at its public meetings in December 2004, February 2005, May 2005 and June 2005. At its September 2005 public meeting, the Council concluded its subbasin plan program amendment process by adopting, as part of its program, a document describing the subbasin plan amendment process, making written findings explaining the Council's disposition of the amendment recommendations, and explaining how the Council responded to the public comment on the recommendations and draft program amendments. This documents also serves as a Statement of Basis and Purpose for the Council's decision.

The subbasin plans amended into the program and the program document with the findings on recommendations and responses to comments may be found on the Council's Web site, at http://www.nwcouncil.org/fw/subbasinplanning/Default.htm.

FOR FURTHER INFORMATION CONTACT: If you would like a copy of the subbasin plan program amendments, please go to the Council's Web site at the address above. The subbasin plan program will also soon be available on a compact disc or in printed form. For more information, please contact the Council's central office for assistance. The Council's address is 851 SW. Sixth Avenue, Suite 1100, Portland, Oregon 97204. The Council's telephone numbers are 503-222-5161 and 800-452-5161, and the FAX number is 503-820-2370. The Council's Web site is http://www.nwcouncil.org.

Stephen L. Crow,
Executive Director.

[FR Doc. 05-19760 Filed 9-30-05; 8:45 am]

BILLING CODE 6450-AJ-M